DEPARTMENT OF STATE

[Public Notice: 5522]

Bureau of Western Hemisphere Affairs; Notice of New Information Collection Under Emergency Review: Human Rights Violators List; Form DS-5090e, OMB Control Number 1405-xxxx

AGENCY: Bureau of Western Hemisphere Affairs, Department of State.

ACTION: Notice of request for Emergency OMB approval.

SUMMARY: The Department of State has submitted the following new information collection request to the Office of Management and Budget (OMB) for review and approval in accordance with the emergency review procedures of the Paperwork Reduction Act of 1995.

Type of Request: Emergency Review.

Originating Office: Bureau of Western Hemisphere Affairs, Office of Cuban Affairs (WHA/CCA)

Title of Information Collection: Human Rights Violators List.

Frequency: On occasion.

Form Number: DS-5090e.

Respondents: Victims of human rights violations.

Estimated Number of Respondents: 7,300.

Average Hours per Response: 15 minutes per response.

Total Estimated Burden: 1,825 hours.

The proposed information collection is published to obtain comments from the public and affected agencies. Emergency review and approval of this collection has been requested from OMB by August 18, 2006. If granted, the emergency approval is only valid for 180 days. During this 180-day period, we will publish a separate Federal Register Notice announcing the initiation of an extensive 60-day agency review and public comment period on this collection. We will submit the collection to OMB and seek an extension of this emergency approval.

Comments should be directed to Katherine Astrich, State Department Desk Officer, Office of Information and Regulatory Affairs, Office of Management and Budget (OMB), Washington, DC 20530, who may be reached on 202-395-4718.

For Additional Information: Requests for additional information, regarding the collection listed in this notice should be directed to Tim Zuniga-Brown, Office of Cuban Affairs, U.S. Department of State, Washington, DC 20520, who may be reached on 202-647-7481.

Abstract of Proposed Collection

The President has asked the interagency community to use the temporary transfer of power from Fidel Castro to his brother Raul Castro in August 2006 as an historic moment to work to encourage a democratic transition in Cuba. In keeping with the recommendations of the Commission for Assistance to a Free Cuba report, the State Department will seek information from the public about human rights abuses committed by Cuban authorities, including the military and members of the security forces. The information is sought in accordance with, inter alia, 22 U.S.C. 2656 and 2304(a)(1). The principal purpose for collecting the information is to prepare and maintain a database of human rights abusers in Cuba. The Department may use this information in connection with its responsibilities for the protection and promotion of human rights and for the conduct of foreign affairs, as well as for other appropriate purposes as a routine part of the Department's activities.

Methodology: WHA/CCA will collect this information via electronic submission.

Dated: August 16, 2006.
Caleb McCarry,
Cuban Transition Coordinator, Bureau of Western Hemisphere Affairs, Department of State.

[FR Doc. E6-13960 Filed 8-21-06; 8:45 am]

BILLING CODE 4710-29-P